FEDERAL COMMUNICATIONS COMMISSION

[OMB 3060-1163]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid OMB control number. No person shall be subject to any penalty for failing to comply with a collection of information subject to the PRA that does not display a valid OMB control number.

DATES: Written PRA comments should be submitted on or before February 27, 2017. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: OMB Control Number: 3060-1163.

Title: Regulations Applicable to Broadcast, Common Carrier, and Aeronautical Radio Licensees Under Section 310(b) of the Communications Act of 1934, as amended.

Form Number: N/A.

Type of Review: Revision of a currently approved collection.

Respondents: Business or other for-profit entities.

Number of Respondents and Responses: 81 respondents; 81 responses.

Estimated Time per Response: 2 hours-46 hours.

Frequency of Response: On-occasion reporting requirement.

Obligation To Respond: Required to obtain or retain benefits. The statutory authority for this collection is contained in 47 U.S.C. 151, 152, 154(i), 154(j), 160, 303(r), 309, 310 and 403.

Total Annual Burden: 1,830 hours.

Total Annual Cost: $524,400.

Nature and Extent of Confidentiality: In submitting the information request, respondents may need to disclose confidential information to satisfy the requirements. However, covered entities would be free to request that such materials submitted to the Commission be withheld from public inspection (see 47 CFR 0.459 of the Commission's rules).

Privacy Impact Assessment: No impacts(s).

Needs and Uses: The Commission will submit this information collection to OMB after this 60-day comment period as a revision to obtain the full three-year clearance from OMB.

On September 29, 2016, the Commission adopted final rules in Review of Foreign Ownership Policies for Broadcast, Common Carrier and Aeronautical Radio Licensees under Section 310(b)(4) of the Communications Act of 1934, as Amended, Report and Order, 31 FCC Rcd 11272 (2016) (2016 Foreign Ownership Report and Order). In the 2016 Foreign Ownership Order, the Commission:

• Modified its foreign ownership filing and review process for broadcast licensees by extending to such licensees the streamlined rules and procedures developed for foreign ownership reviews of common carrier and certain aeronautical licensees (collectively, “common carrier” licensees) under Section 310(b)(4) of the Communications Act of 1934, as amended (the Act) with certain modifications to tailor them to the broadcast context; and

• Reformed the methodology used by both common carrier and broadcast licensees that are, or are controlled by, U.S. publicly traded companies to assess their compliance with the foreign ownership limits in Sections 310(b)(3) and 310(b)(4) of the Act, respectively.

The Commission therefore requests approval of substantial changes to the above-referenced information collection in order to apply to broadcast licensees substantially the same foreign ownership rules and procedures that apply to common carrier licensees and spectrum lessees and certain aeronautical licensees (collectively, “common carrier” licensees) under this information collection and the rules adopted in Review of Foreign Ownership Policies for Common Carrier and Aeronautical Radio Licensees under Section 310(b)(4) of the Communications Act of 1934, as Amended, IB Docket No. 11-133, Second Report and Order, 28 FCC Rcd 5741(2013).

The 2016 Foreign Ownership Report and Order incorporated broadcasters into the common carrier foreign ownership rules (previously codified in Part 1, Subpart F, Sections 1.990 through 1.994 of the Commission's rules) through various changes. Notably, the Commission added new text to certain paragraphs of the rules (see e.g. Note to paragraph (i)(1) of Section 1.5001(i)), and by adding new paragraphs where needed. In this regard, we have added new paragraph (e) to Section 1.5000, which sets forth the new methodology for eligible public companies—both broadcast and common carrier—and new paragraphs (f)(2)-(3) of Section 1.5004, which sets forth new compliance provisions for such companies.

The rules adopted in the 2016 Foreign Ownership Report and Order include the following broadcast-specific provisions in lieu of provisions applicable to common carrier licensees:

• Broadcast licensees filing a petition for declaratory ruling (petition) to request Commission approval of foreign ownership in excess of the 25 percent benchmark in Section 310(b)(4) will use the broadcast “attribution” criteria to determine those U.S. and foreign ownership interests that must be disclosed in the petition. The disclosure will ensure the Commission has sufficient information to understand the licensee's ownership structure and to verify the identity and ultimate control of the foreign investor for which the petitioner seeks specific approval.

• Broadcast licensees will use the broadcast “insulation criteria” set forth in the broadcast attribution rules in determining whether the broadcaster must include in its petition a request for “specific approval” of a particular foreign investor because the investor holds, or would hold, directly and/or indirectly, more than 5 percent (or, in the case of certain passive investors, more than 10 percent) of the total outstanding capital stock (equity) and/or voting stock (or a controlling share) of the licensee's controlling U.S.-organized parent company. The current insulation criteria for common carrier licensees will continue to apply.

The Commission does not anticipate that these broadcast-specific provisions will impact the time per response for broadcast companies filing a Section 310(b)(4) petition. Thus, we estimate the same time per response for broadcast as for common carrier petitions. The Commission also finds that adopting a standardized filing and review process for broadcast licensees' requests to exceed the 25 percent foreign ownership benchmark in Section 310(b)(4), as the Commission has done for common carrier licensees, will provide the broadcast sector with greater transparency, more predictability, and reduce regulatory burdens and costs.

In addition to these tailored changes to incorporate broadcast licensees into the existing foreign ownership rules applicable to common carrier licensees under Section 310(b)(4), the 2016 Foreign Ownership Report and Order clarifies the Commission's foreign ownership compliance procedures (to be codified in Section 1.5004(f)(3)-(4)) specifically to allow a broadcast or common carrier licensee to file a petition for declaratory ruling to remedy the licensee's inadvertent non-compliance with the statutory foreign ownership limits or the terms and conditions of the licensee's existing foreign ownership ruling with reasonable assurance that the Commission will not take enforcement action.

The Commission is also making non-substantial changes to this information collection to renumber the foreign ownership rules, which currently are codified in Part 1, Subpart F, Sections 1.990 through 1.994 of the Commission's rules. The new rules, as adopted in the 2016 Foreign Ownership Report and Order, will be codified in Part 1, Subpart T, Section 1.5000 through 1.5004 of the Commission's rules. There is for the most part a one-to-one correlation between the existing rules (1.990-1.994) and the new rules (1.5000-1.5004).

Federal Communications Commission.
Katura Jackson,
Federal Register Liaison Officer, Office of the Secretary.

[FR Doc. 2016-31420 Filed 12-28-16; 8:45 am]

BILLING CODE 6712-01-P